DEPARTMENT OF THE TREASURY

United States Mint

Notification of Call for Artists To Apply for the United States Mint's Artistic Infusion Program

Summary: The United States Mint is accepting applications from professional artists to fill up to ten new Associate Designer positions in its Artistic Infusion Program to help design United States coins and medals. The Artistic Infusion Program was created in 2003 to enrich and invigorate the design of United States coins and medals by developing a pool of professional artists (Master & Associate Designers) and college and graduate-level art students (Student Designers) in visual arts who will be invited to create and submit new designs for selected coin and medal programs throughout the year.

The United States Mint encourages applications from talented artists, representing diverse backgrounds and a variety of interests reflecting those of the American people, who will look at coin design in new ways. Artists selected to participate in the program will be paid an established fee for their work, and those whose designs are used for certain coins and medals will be named as the designer in historical documents, including certificates of authenticity and promotional materials. Most important, the program provides the nation's most gifted artists with the opportunity to contribute beautiful designs to coins that will be enjoyed by all Americans.

An orientation session and designer symposium will be held for artists selected to participate in the program (attending at the United States Mint's expense) at the United States Mint at Philadelphia in early 2007. This session's purpose will be to inform selected artists about the history of United States coin and medal design, the coin making process and upcoming design opportunities.

Please Note: At this time, the Artistic Infusion Program is limited to coin and medal design (i.e., drawings) and does not encompass the execution (sculpting and engraving) of designs. The United States Mint Sculptor-Engravers will model designs created by the Artistic Infusion Program artists.

Application Deadline: September 15, 2006.

How to Apply: Artists who are U.S. citizens should submit a completed Application Packet which includes program details, eligibility requirements, evaluation criteria and detailed application guidelines. The packet is available on the United States Mint's Web site at http://www.usmint.gov or by contacting the United States Mint at (202) 354-7727 or art@usmint.treas.gov. The application includes the submission of a drawing exercise as well as samples of the applicant's work.

Dated: July 31, 2006.
Jerry Horton,
Acting Director, United States Mint.

[FR Doc. E6-12581 Filed 8-3-06; 8:45 am]

BILLING CODE 4810-37-P